DEPARTMENT OF STATE

[Public Notice: 6889]

Meeting of the United States-Peru Environmental Affairs Council

ACTION: Notice of the meeting of the U.S.-Peru Environmental Affairs Council and request for comments.

SUMMARY: The Department of State and the Office of the United States Trade Representative (USTR) are providing notice that the United States and Peru intend to hold the first meeting of the Environmental Affairs Council (the “Council”) in Washington, DC, on February 17, 2010. This body was created pursuant to Chapter 18 (Environment) of the United States-Peru Trade Promotion Agreement (PTPA). A public information session will be held on February 17th, at 2:45 p.m., in room 1107 at the U.S. Department of State, 2201 C Street, NW., Washington, DC 20520. If you would like to attend the session, please send the following information to Jacqueline Tront at the fax number or email address listed below under the heading ADDRESSES: (1) Your name, (2) your date of birth, and (3) the number of a valid identification card that a government has issued to you.

The purpose of the Council meeting is detailed below under Supplementary Information. The meeting agenda will include an overview of Chapter 18 and review of its implementation, a progress report on implementation of the Annex on Forest Sector Governance (Annex 18.3.4), and consideration and discussion of implementation of the U.S.-Peru Environmental Cooperation Agreement (ECA).

The Department of State and USTR invite interested organizations and members of the public to submit written comments or suggestions regarding agenda items and to attend the public session.

In preparing comments, we encourage submitters to refer to:

• Chapter 18 of the PTPA, including Annex 18.3.4.

• The Final Environmental Review of the PTPA.

• The ECA.

These documents are available at: http://www.ustr.gov and http://www.state.gov/g/oes/env/trade/peru/index.htm.

DATES: The public session of the Council meeting is to be held on February 17, 2010, 2:45 p.m. in Washington, DC. To be assured of timely consideration, comments and suggestions are requested in writing no later than February 14, 2010.

ADDRESSES: Written comments or suggestions should be submitted to both:

(1) Jacqueline Tront, Office of Environmental Policy, Bureau of Oceans, International Environmental, and Scientific Affairs, U.S. Department of State, by electronic mail at trontjm@state.gov with the subject line “U.S.-Peru EAC Meeting” or by fax to (202) 647-5947; and

(2) Mara M. Burr, Deputy Assistant United States Trade Representative for Environment and Natural Resources, Office of the United States Trade Representative by electronic mail at mburr@ustr.eop.gov with the subject line “U.S.-Peru EAC Meeting” or by fax to (202) 395-9517.

Persons with access to the Internet may also view and comment on this notice by going to the U.S. Government Regulations.gov Web site at http://regulations.gov/index.cfm.

FOR FURTHER INFORMATION CONTACT: Jacqueline Tront, Telephone (202) 647-4750 or Mara M. Burr, Telephone (202) 395-7320.

SUPPLEMENTARY INFORMATION: The United States-Peru TPA entered into force on February 1, 2009. Article 18.6 of the TPA establishes an Environmental Affairs Council, which is required to meet at least once a year to discuss the implementation of, and progress under, Chapter 18. Chapter 18 requires that meetings of the Council include a public session, unless the Parties otherwise agree.

At the upcoming meeting of the Council, the Council will review the status of implementation of Chapter 18 and assess the progress on implementing the Annex on Forest Sector Governance (Annex 18.3.4). The public is advised to refer to the State Department Web site at http://www.state.gov/g/oes/env/trade/peru/index.htm and the USTR Web site at http://www.USTR.gov for further information.

Dated: February 1, 2010.
Willem H. Brakel,
Acting Director, Office of Environmental Policy, Department of State.

[FR Doc. 2010-2416 Filed 2-3-10; 8:45 am]

BILLING CODE 4710-09-P